DEPARTMENT OF TRANSPORTATION

Federal Railroad Administration

[Waiver Petition Docket Number FRA-2003-16306]

Union Pacific Railroad Company; Notice of Postponement of Public Hearing

On December 11, 2003, FRA published a notice in the Federal Register announcing the Union Pacific Railroad Company's (UP) intent to be granted a waiver of compliance from certain provisions of the Railroad Locomotive Safety Standards, 49 CFR Part 229. See 68 FR 69123. Specifically, UP requests relief from the requirements of 49 CFR 229.27(a)(2) Annual Tests and 49 CFR 229.29(a) Biennial Tests, applicable to all existing and future installations of electronic air brake equipment furnished by Wabtec Corporation of Wilmerding, Pennsylvania on UP locomotives.

As a result of the comments received by FRA concerning this waiver petition, FRA determined that a public hearing was necessary before a final decision could be made on this petition. Accordingly, on June 14, 2004, FRA issued a notice in the Federal Register announcing that a public hearing was set to begin at 10 a.m. on July 13, 2004, at the Washington Plaza Hotel, 10 Thomas Circle, NW., Washington DC 20005. See 69 FR 33097. Subsequent to the issuance of that notice, FRA was informed by UP that it would like to postpone the scheduled public hearing in order to engage in additional outreach with the involved labor organizations. The commenter in this matter has informally agreed to postponement of the scheduled public hearing. Consequently, FRA is postponing the public hearing in this matter until further notice. A new public hearing will be rescheduled if any interested party notifies FRA, in writing, within 45 days of the date of this notice of its desire to have an opportunity for oral comment and specifies the basis for their request. Furthermore, no decision will be rendered in this matter without conducting a public hearing unless the party or parties originally requesting the public hearing formally withdraws that request. FRA will issue a notice in the Federal Register at least 30 days prior to the date of any new public hearing scheduled in this matter. All communications concerning these proceedings should identify the appropriate docket number (FRA-2003-16306) and must be submitted to the Docket Clerk, DOT Docket Management Facility, Room PL-401 (Plaza Level), 400 7th Street, SW., Washington, DC 20590. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC on June 29, 2004.
Grady C. Cothen, Jr.,
Acting Associate Administrator for Safety.

[FR Doc. 04-15252 Filed 7-2-04; 8:45am]

BILLING CODE 4910-06-P